DEPARTMENT OF THE INTERIOR

National Park Service

[NPS-WASO-NAGPRA-NPS0032881; PPWOCRADN0-PCU00RP14.R50000]

Notice of Inventory Completion: Anthropological Studies Center, Archaeological Collections Facility, Sonoma State University, Rohnert Park, CA

AGENCY: National Park Service, Interior.

ACTION: Notice.

SUMMARY: The Anthropological Studies Center, Archaeological Collections Facility, Sonoma State University (ACF) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the ACF. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the ACF at the address in this notice by November 29, 2021.

FOR FURTHER INFORMATION CONTACT: Sandra Konzak, NAGPRA Coordinator, Anthropological Studies Center, Sonoma State University, 1801 East Cotati Avenue, Building 29, Rohnert Park, CA 94928 telephone (707) 664-2895, email Sandra.konzak@sonoma.edu.

SUPPLEMENTARY INFORMATION: Notice is here given in accordance with the Native American Graves Protection and Repatriation Act (NAGPRA), 25 U.S.C. 3003, of the completion of an inventory of human remains under the control of the Anthropological Studies Center, Archaeological Collections Facility, Sonoma State University (ACF), Rohnert Park, CA. The human remains were removed from Marin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by ACF professional staff in consultation with representatives of the Federated Indians of Graton Rancheria, California.

History and Description of the Remains

In 1964 and 1965, human remains representing, at minimum, one individual were removed from site CA-MRN-489 in Marin County, CA, by Agnes Gerkin. The site is in an intertidal zone. Gerkin removed the human remains from the surface of the site during low tide. She donated the CA-MRN-489 collection to Sonoma State University in 1975, where it has been housed at the ACF under the accession number 75-29.

In July of 2016, while researching the collection, Tsim Schnieder (University of California, Santa Cruz) identified the presence of human remains. His finding was confirmed by ACF Osteological Specialist Michael Stoyka in August of 2016. At least one individual of indeterminate sex is represented. No known individual was identified. No associated funerary objects are present.

Officials of the ACF consulted with representatives of the Federated Indians of Graton Rancheria, California. The representatives of Federated Indians of Graton Rancheria, California requested repatriation of all items within the collection since an association between specific items and human remains could not be ruled out due to the nature of the tidal site and the method of collection.

Obsidian hydration readings from artifacts removed from CA-MRN-489 range between 125- and 1,200-years BP. While the presence of Stockton serrated points in the collection suggests a range in the Lower Emergent Period (1,500-500 years ago) (Rosenthal, Sutton and White 2007:158), the collection also contains glass trade beads, which were widely distributed starting in the 18th century (Arkush 1993:623-624). The site is within the traditional territory of the Coast Miwok.

Determinations Made by the Anthropological Studies Center, Archaeological Collections Facility, Sonoma State University

Officials of the Anthropological Studies Center, Archaeological Collections Facility, Sonoma State University have determined that:

• Pursuant to 25 U.S.C. 3001(9), the human remains described in this notice represent the physical remains of one individual of Native American ancestry.

• Pursuant to 25 U.S.C. 3001(2), there is a relationship of shared group identity that can be reasonably traced between the Native American human remains and the Federated Indians of Graton Rancheria, California.

Additional Requestors and Disposition

Lineal descendants or representatives of any Indian Tribe or Native Hawaiian organization not identified in this notice that wish to request transfer of control of these human remains should submit a written request with information in support of the request to Sandra Konzak, NAGPRA Coordinator, Anthropological Studies Center, Sonoma State University, 1801 East Cotati Avenue, Building 29, Rohnert Park, CA 94928 telephone (707) 664-2895, email Sandra.konzak@sonoma.edu, by November 29, 2021. After that date, if no additional requestors have come forward, transfer of control of the human remains to the Federated Indians of Graton Rancheria, California may proceed.

The Anthropological Studies Center, Archaeological Collections Facility, Sonoma State University is responsible for notifying the Federated Indians of Graton Rancheria, California that this notice has been published.

Dated: October 14, 2021.
Melanie O'Brien,
Manager, National NAGPRA Program.

[FR Doc. 2021-23489 Filed 10-27-21; 8:45 am]

BILLING CODE 4312-52-P